FEDERAL RETIREMENT THRIFT INVESTMENT BOARD

Sunshine Act; Notice of Meeting

TIME AND DATE: a.m. (Eastern Time) September 20, 2010.

PLACE: 4th Floor Conference Room, 1250 H Street, NW., Washington, DC 20005.

STATUS: All parts will be open to the public.

MATTERS TO BE CONSIDERED:

1. Approval of the minutes of the August 16, 2010 Board Member Meeting

2. Thrift Savings Plan Activity Report by the Executive Director

a. Monthly Participant Activity Report

b. Monthly Investment Performance Review

c. Legislative Report

3. Annual Budget Reports

a. Fiscal Year 2010 Expenditures

b. Fiscal Year 2011 Budget

c. Fiscal Year 2012 Estimates

CONTACT PERSON FOR MORE INFORMATION: Thomas J. Trabucco, Director, Office of External Affairs, (202) 942-1640.

Dated: September 10, 2010.
Thomas K. Emswiler,
Secretary, Federal Retirement Thrift Investment Board.

[FR Doc. 2010-23003 Filed 9-10-10; 4:15 pm]

BILLING CODE 6760-01-P